DEPARTMENT OF COMMERCE

National Oceanic and Atmospheric Administration

RIN 0648-XG933

South Atlantic Fishery Management Council; Public Meetings

AGENCY: National Marine Fisheries Service (NMFS), National Oceanic and Atmospheric Administration (NOAA), Commerce.

ACTION: Notice of public meetings.

SUMMARY: The South Atlantic Fishery Management Council's (Council) will hold a meeting of the Snapper Grouper Advisory Panel (AP) in April.

DATES: The Snapper Grouper AP meeting will take place April 24, 2019, from 1:30 p.m. to 5 p.m., April 25, from 8:30 a.m. until 5 p.m., and April 26, from 8:30 a.m. until 12 p.m.

ADDRESSES:

Meeting address: The meeting will be held at the Crowne Plaza Hotel, 4831 Tanger Outlet Blvd., Charleston, SC 29418.

Council address: South Atlantic Fishery Management Council, 4055 Faber Place Drive, Suite 201, N. Charleston, SC 29406.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Snapper Grouper AP meeting is open to the public and will be available via webinar as it occurs. Registration is required. Webinar registration information, a public comment form, and other meeting materials will be posted to the Council's website at: http://safmc.net/safmc-meetings/current-advisory-panel-meetings/ as it becomes available.

Agenda items for the Snapper Grouper AP meeting include the following: A review and update on amendments to fishery management plans that are currently under development by the Council or undergoing Secretarial review that impact the snapper grouper fishery; a review of draft Regulatory Amendment 29 to the Snapper Grouper Fishery Management Plan (FMP) addressing best fishing practices with the AP providing recommendations on how to define a descending device ; a review and discussion of the draft Acceptable Biological Catch Control Rule Amendment with AP members providing recommendations on risk ratings for managed stocks; and a review of the proposed management actions and alternatives in the draft Recreational Accountability Measures Amendment. The AP will also draft a Fishery Performance Report for blueline tilefish; receive a presentation on the results of recent Recreational Workshops conducted by the American Sportfishing Association, Coastal Conservation Association, and Yamaha Marine Group; receive a presentation from the Permits Office at the NOAA Fisheries' Southeast Regional Office; a presentation on the Effects of Recreational Management Actions on Select Snapper Grouper Species; an update on the Council's Citizen Science Program, and discuss spearfishing in the snapper grouper fishery. In addition, the AP will review the objectives as listed in the Snapper Grouper FMP. The AP will also elect a new Chair and Vice-Chair. The AP will develop recommendations as necessary for consideration by the Council's Snapper Grouper Committee.

Special Accommodations

These meetings are physically accessible to people with disabilities. Requests for auxiliary aids should be directed to the Council office (see ADDRESSES) 3 days prior to the public meetings.

Note: The times and sequence specified in this agenda are subject to change.

Authority: 16 U.S.C. 1801 et seq.

Dated: April 5, 2019.
Tracey L. Thompson,
Acting Deputy Director, Office of Sustainable Fisheries, National Marine Fisheries Service.

[FR Doc. 2019-07061 Filed 4-9-19; 8:45 am]

BILLING CODE 3510-22-P